DEPARTMENT OF ENERGY

Federal Energy Regulatory Commission

Combined Notice of Filings #1

Take notice that the Commission received the following electric corporate filings:

Docket Numbers: EC12-140-000.

Applicants: LSP Energy Limited Partnership.

Description: Supplement to Section 203 Application and Request for Shortened Comment Period of LSP Energy Limited Partnership.

Filed Date: 10/12/12.

Accession Number: 20121012-5153.

Comments Due: 5 p.m. ET 10/22/12.

Docket Numbers: EC13-10-000.

Applicants: Catalina Solar, LLC, Catalina Solar Lessee, LLC.

Description: Joint Application of Catalina Solar, LLC and Catalina Solar Lessee, LLC for Approval under Section 203 of the FPA; Request for Expedited Consideration and Confidential Treatment.

Filed Date: 10/12/12.

Accession Number: 20121012-5117.

Comments Due: 5 p.m. ET 11/2/12.

Docket Numbers: EC13-11-000.

Applicants: Saddle Mountain Power, LLC, MACH Gen, LLC, New Harquahala Generating Company, LLC.

Description: Application for Authorization under Section 203 of the Federal Power Act to Dispose of Jurisdictional Facilities and Request for Confidential Treatment of MACH Gen, LLC, New Harquahala Generating Company, LLC, and Saddle Mountain Power, LLC.

Filed Date: 10/12/12.

Accession Number: 20121012-5159.

Comments Due: 5 p.m. ET 12/11/12.

Docket Numbers: EC13-12-000.

Applicants: GWF Energy LLC, Castle Holdings LLC.

Description: Application for Section 203 authorization of GWF Energy LLC and Castle Holdings LLC.

Filed Date: 10/12/12.

Accession Number: 20121012-5166.

Comments Due: 5 p.m. ET 11/2/12.

Take notice that the Commission received the following electric rate filings:

Docket Numbers: ER10-1777-004; ER10-2983-003; ER10-2980-003; ER10-2988-004; ER10-3310-003.

Applicants: Sundevil Power Holdings, LLC, Castleton Energy Services, LLC, Castleton Power, LLC, Thompson River Power, LLC, New Harquahala Generating Company, LLC.

Description: Notification of Change in Status of the Wayzata Entities and New Harquahala Generating Company, LLC.

Filed Date: 10/12/12.

Accession Number: 20121012-5170.

Comments Due: 5 p.m. ET 11/2/12.

Docket Numbers: ER10-2181-014; ER10-2179-014; ER10-2182-014.

Applicants: Calvert Cliffs Nuclear Power Plant, LLC, Nine Mile Point Nuclear Station, LLC, R.E. Ginna Nuclear Power Plant, LLC.

Description: Notice of Non-Material Change in Status of Nine Mile Point Nuclear Station, LLC, et al.

Filed Date: 10/12/12.

Accession Number: 20121012-5156.

Comments Due: 5 p.m. ET 11/2/12.

Docket Numbers: ER10-3169-003.

Applicants: Michigan Power Limited Partnership.

Description: Notice of Non-Material Change in Status of Michigan Power Limited Partnership.

Filed Date: 10/12/12.

Accession Number: 20121012-5163.

Comments Due: 5 p.m. ET 11/2/12.

Docket Numbers: ER12-360-002.

Applicants: New York Independent System Operator, Inc.

Description: NYISO Filing to Correct Tariff Base to be effective 1/9/2012.

Filed Date: 10/12/12.

Accession Number: 20121012-5139.

Comments Due: 5 p.m. ET 11/2/12.

Docket Numbers: ER12-2178-001; ER10-2172-012; ER11-2016-007; ER10-2184-012; ER10-2183-009; ER10-1048-009; ER10-2176-013; ER10-2192-012; ER11-2056-006; ER10-2178-012; ER10-2174-012; ER11-2014-009; ER11-2013-009; ER10-3308-011; ER10-1017-008; ER10-1020-008; ER10-1145-008; ER10-1144-007; ER10-1078-008; ER10-1079-008; ER10-1080-008; ER11-2010-009; ER10-1081-008; ER10-2180-012; ER11-2011-008; ER12-2201-002; ER11-2009-008; ER11-3989-007; ER10-1143-008; ER11-2780-006; ER12-1829-001; ER11-2007-007; ER12-1223-006; ER11-2005-009.

Applicants: Wind Capital Holdings, LLC, Wildcat Wind, LLC, Tuana Springs Energy, LLC, Shooting Star Wind Project, LLC, Safe Harbor Water Power Corporation, PECO Energy Company, Michigan Wind 1, LLC, Michigan Wind 2, LLC, Harvest II Wind Farm, LLC, Harvest WindFarm, LLC, Handsome Lake Energy, LLC, Exelon Wyman, LLC, Exelon Wind 4, LLC, Exelon West Medway, LLC, Exelon New England Power Marketing, LP, Exelon New Boston, LLC, Exelon Generation Company, LLC, Exelon Generation Company, LLC, Exelon Framingham, LLC, Exelon Energy Company, Criterion Power Partners, LLC, CR Clearing, LLC, Cow Branch Wind Power, L.L.C., Constellation Power Source Generation LLC, Constellation NewEnergy, Inc., Constellation Mystic Power, LLC, Constellation Energy Commodities Group Maine, LLC, Constellation Energy Commodities Group, Inc. Commonwealth Edison Company, CER Generation II, LLC, CER Generation, LLC, Cassia Gulch Wind Park, Beebe Renewable Energy, LLC, Baltimore Gas and Electric Company, AV Solar Ranch 1, LLC.

Description: Notice of Non-Material Change in Status of Exelon MBR Entities.

Filed Date: 10/12/12.

Accession Number: 20121012-5168.

Comments Due: 5 p.m. ET 11/2/12.

Docket Numbers: ER12-2250-000; ER12-2251-000; ER12-2252-000; ER12-2253-000.

Applicants: Public Power & Utility of New Jersey, LLC, Public Power & Utility of NY, Inc., Public Power (PA), LLC, Public Power & Utility of Maryland, LLC.

Description: Public Power & Utility of New Jersey, LLC, et al. submit Refund Reports.

Filed Date: 10/15/12.

Accession Number: 20121015-5120.

Comments Due: 5 p.m. ET 11/5/12.

Docket Numbers: ER12-2414-002.

Applicants: New York Independent System Operator, Inc.

Description: NYISO Filing to Correct Tariff Base to be effective 6/22/2012.

Filed Date: 10/12/12.

Accession Number: 20121012-5147.

Comments Due: 5 p.m. ET 11/2/12.

Docket Numbers: ER12-2536-001.

Applicants: Frontier El Dorado Refining LLC.

Description: Amendment to MBR Application to be effective 1/1/2013.

Filed Date: 10/12/12.

Accession Number: 20121012-5148.

Comments Due: 5 p.m. ET 11/2/12.

Docket Numbers: ER12-2668-001.

Applicants: Arizona Public Service Company.

Description: APS Rate Schedule No. 261, SRSG Participation Agreement to be effective 12/28/2011.

Filed Date: 10/12/12.

Accession Number: 20121012-5123.

Comments Due: 5 p.m. ET 11/2/12.

Docket Numbers: ER13-115-000.

Applicants: Flat Ridge 2 Wind Energy LLC.

Description: Updated Market-Based Rate Tariff Update to be effective 12/11/2012.

Filed Date: 10/12/12.

Accession Number: 20121012-5121.

Comments Due: 5 p.m. ET 11/2/12.

Docket Numbers: ER13-116-000.

Applicants: American Electric Power Service Corporation, PJM Interconnection, L.L.C.

Description: AEPSC submits 35th Revised SA No. 1336 among AEPSC & Buckeye to be effective 9/17/2012.

Filed Date: 10/12/12.

Accession Number: 20121012-5122.

Comments Due: 5 p.m. ET 11/2/12.

Docket Numbers: ER13-117-000.

Applicants: New York Independent System Operator, Inc.

Description: NYISO Filing to Defer Effective Date of Tariff Revisions to be effective 11/16/2012.

Filed Date: 10/12/12.

Accession Number: 20121012-5124.

Comments Due: 5 p.m. ET 11/2/12.

Docket Numbers: ER13-118-000.

Applicants: Southwest Power Pool, Inc.

Description: Revisions to Lincoln Electric System Formula Rate Template to be effective 10/1/2012.

Filed Date: 10/12/12.

Accession Number: 20121012-5140.

Comments Due: 5 p.m. ET 11/2/12.

Docket Numbers: ER13-119-000.

Applicants: Cheyenne Light, Fuel and Power Company.

Description: Baseline OATT to be effective 10/13/2012.

Filed Date: 10/12/12.

Accession Number: 20121012-5144.

Comments Due: 5 p.m. ET 11/2/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2012.
Nathaniel J. Davis, Sr.,
Deputy Secretary.

[FR Doc. 2012-25884 Filed 10-19-12; 8:45 am]

BILLING CODE 6717-01-P